DEPARTMENT OF THE TREASURY

Departmental Offices; Privacy Act of 1974, as Amended

AGENCY: Departmental Offices, Treasury.

ACTION: Notice of Alteration of Privacy Act System of Records for the Home Affordable Modification Program.

SUMMARY: The U.S. Department of the Treasury gives notice of a proposed alteration to the system of records entitled “Treasury/DO .218—Home Affordable Modification Program.”

DATES: Comments should be received no later than July 25, 2011. The proposed routine use will be effective August 3, 2011 unless the Department receives comments that would result in a contrary determination.

ADDRESSES: Comments should be sent to the Deputy Assistant Secretary Fiscal Operations and Policy, Department of the Treasury, 1500 Pennsylvania Avenue, NW., Washington, DC 20220. The Department will make such comments available for public inspection and copying in the Department's Library, Room 1428, Main Treasury Building, 1500 Pennsylvania Avenue, NW., Washington, DC 20220, on official business days between the hours of 10 a.m. and 5 p.m. Eastern Time. You can make an appointment to inspect comments by telephoning (202) 622-0990 (This is not a toll-free number). All comments, including attachments and other supporting materials, received are part of the public record and subject to public disclosure. You should submit only information that you wish to make available publicly.

FOR FURTHER INFORMATION CONTACT: Theodore R. Kowalsky, Manager, Data & Information Technology, Office of Financial Agents, Department of the Treasury, 1500 Pennsylvania Avenue, NW., Washington, DC 20220, 202-927-9445 or at Ted.Kowalsky@do.treas.gov.

SUPPLEMENTARY INFORMATION: The Department established the Home Affordable Modification Program (HAMP), pursuant to the Emergency Economic Stabilization Act of 2008 (Pub. L. 110-343) (the “EESA”), to enable eligible homeowners who have a record of making timely mortgage payments, but are experiencing hardships in doing so, to modify the principal amounts and interest rates of their mortgage loans. The system of records notice was last published in its entirety on April 20, 2010, at 75 FR 20699. The Department subsequently amended routine use (13) on July 2, 2010, at 75 FR 38608.

The purpose of this alteration to Routine Use (8) is to harmonize this Routine Use with Routine Use (13), such that it will enable the Financial Agent of the Department, its employees, agents, and contractors, or a contractor of the Department to assess the quality of services provided under HAMP, their efficient administration, and to report on the program's overall execution.

The purpose of this alteration to Routine Use (13) is to allow broader disclosure of information to the Department of Commerce (“Commerce”), which will provide technical analysis and support to the Department of the Treasury to assess the quality of services provided under HAMP and to report on the program's overall execution.

Additionally, the Department proposes adding a new Routine Use (16), to read as follows:

“(16) Disclose information to an authorized recipient who has assured the Department or a Financial Agent of the Department in writing that the record will be used solely for research purposes designed to assess the quality of and efficient administration of HAMP, subject to the same or equivalent limitations applicable to the Department's officers and employees under the Privacy Act.”

The report of an altered system of records, as required by 5 U.S.C. 552a(r) of the Privacy Act, has been provided to the Committee on Oversight and Government Reform of the House of Representatives, the Committee on Homeland Security and Governmental Affairs of the Senate, and the Office of Management and Budget.

For the reasons set forth in this preamble, the Department proposes to alter system of records entitled “Treasury/DO .218—Home Affordable Modification Program,” as follows:

TREASURY/DO .218

System name:

Home Affordable Modification Program Records—Treasury/DO.

* * * * *

Routine uses of records maintained in the system, including categories of users and the purposes of such uses:

* * * * *

* *

Description of changes:

1. The phrase “for the purpose of ensuring the efficient administration” in Routine Use (8) is replaced with the phrase “for the purpose of assessing the quality of and efficient administration”, such that Routine Use (8) is revised to read as follows: “(8) Disclose information to a Financial Agent of the Department, its employees, agents, and contractors, or to a contractor of the Department, for the purpose of assessing the quality of and efficient administration of HAMP and compliance with relevant guidelines, agreements, directives and requirements, and subject to the same or equivalent limitations applicable to Department's officers and employees under the Privacy Act;”

2. The phrase “the Department of Commerce (“Commerce”),” is added to Routine Use (13) between the phrases “Housing and Urban Development,” and “Federal financial regulators”, and the phrase “to improve the quality” is replaced with the phrase “to assess the quality and efficiency”, such that Routine Use (13) is revised to read as follows: “(13) Disclose information and statistics to the Department of Housing & Urban Development, the Department of Commerce (“Commerce”), Federal financial regulators, the U.S. Department of Justice (“DOJ”), and the Federal Housing Finance Agency to assess the quality and efficiency of services provided under HAMP, to ensure compliance with HAMP and other laws, and to report on the program's overall execution and progress;”

3. The period “.” at the end of Routine Use (15) is replaced with a semicolon “;” followed by the word “and”, and the following new Routine Use is added at the end thereof: “(16) Disclose information to an authorized recipient who has assured the Department or a Financial Agent of the Department in writing that the record will be used solely for research purposes designed to assess the quality of and efficient administration of HAMP, subject to the same or equivalent limitations applicable to the Department's officers and employees under the Privacy Act.”

* * * * *

Dated: June 13, 2011.
Melissa Hartman,
Deputy Assistant Secretary for Privacy, Transparency, and Records.

[FR Doc. 2011-15860 Filed 6-23-11; 8:45 am]

BILLING CODE 4810-25-P